DEPARTMENT OF COMMERCE

National Oceanic and Atmospheric Administration

United States Climate Change Science Program

AGENCY: National Oceanic and Atmospheric Administration (NOAA).

ACTION: Notice of open workshop.

SUMMARY: The U.S. Global Change Research Act of 1990 initiated the U.S. Global Change Research Program (USGCRP) that continues today as a major sponsor of global change research. In June 2001 President George W. Bush directed the USGCRP agencies to develop a focused Climate Change Research Initiative (CCRI) with the goal of accelerating the USGCRP research activities in the next 2 to 5 years to assist in the development of public policy and natural resource management tools related to climate change issues. The U.S. Climate Change Science Program (CCSP), incorporating the USGCRP and the CCRI, will hold a comprehensive workshop to receive participants' individual comments on a discussion draft version of its Strategic Plan for climate change and global change studies. When finalized, the draft strategic Plan reviewed during and after the Workshop will provide the principal guidance for the U.S. global change and climate change research programs during the next several years, subject to revisions as appropriate to respond to newly developed information and decision support tools.

TIME AND DATE: The workshop will be held Tuesday, December 3, 2002, from 9:30 a.m.-5:30 p.m., Wednesday, December 4, 2002, from 8:30 am-5:30 p.m., and Thursday, December 5, 2002, from 8:30 a.m.-4 p.m. These times may be subject to change. Refer to the Web site listed below for a final meeting agenda.

PLACE: The workshop will be held at the Marriott Wardman Park Hotel, 2660 Woodley Road, NW., in Washington, DC.

STATUS: The meeting will be open to registered participants. The public may register at the Web site below or by sending a fax to 303-497-8633 with the following information: (1) Prefix: (Dr., Mr., Ms., other); (2) first name/given name; (3) middle initial; (4) last name/surname; (5) name as you want it printed on your name badge; (6) organization/institution; (7) department, division or program; (8) street address; (9) city; (10) state/province (if applicable); (11) ZIP or postal code; (12) country; (13) telephone number; (14) fax number; and (15) email address. Limited registration may be available at the Workshop, but cannot be guaranteed due to space consideration. The Workshop will include daily plenary sessions and several breakout sessions. Each breakout session will include invited reviewer comments as well as the opportunity for general attendee comments. All comments must be submitted by individual participants. Group consensus comments will not be accepted. The discussion draft of the Strategic Plan and directions for submitting comments has been posted on the Web site below. Comments, questions and suggestions are welcomed from both scientific and stakeholder communities during and after the Workshop. Comments on the Strategic Plan can be submitted up to January 13, 2003.

Matters to be considered: To assure the continued scientific credibility of the CCSP, the Workshop will provide a comprehensive review of the discussion draft of the Strategic Plan.

FOR FURTHER INFORMATION CONTACT: Ms. Sandy MacCracken, U.S. Climate Change Science Program, Suite 250, 1717 Pennsylvania Ave, NW., Washington, DC 20006. (Phone: 202-223-6262, Fax: 202-223-3065, e-mail: smaccrac@usgcrp.gov); or visit the CCSP Web site at http://www.climatescience.gov.

James R. Mahoney,
Assistant Secretary for Oceans and Atmosphere and Director, U.S. Climate Change Science Program.

[FR Doc. 02-29317 Filed 11-18-02; 8:45 am]

BILLING CODE 3510-KB-M